COMMITTEE FOR PURCHASE FROM PEOPLE WHO ARE BLIND OR SEVERELY DISABLED

Withdrawal of Deletion Notice

In the document appearing on page 40980, FR Doc. 05-13969, in the issue of July 17, 2005, the Committee published suspension of the effective date of the Deletion Notice published on page 35223, FR Doc. 05-3139, in the issue of June 17, 2005 for the following products:

Cup, Disposable

NSN: 7350-00-914-5089—Cup, Disposable

NSN: 7350-00-761-7467—Cup, Disposable

NSN: 7350-00-914-5088—Cup, Disposable

Cup, Disposable (Foam Plastic)

NSN: 7350-00-721-9003—Cup, Disposable (Foam Plastic), 6 oz.

NSN: 7350-00-145-6126—Cup, Disposable (Foam Plastic), 16 oz.

NSN: 7350-00-926-1661—Cup, Disposable (Foam Plastic), 10 oz.

NSN: 7350-00-082-5741—Cup, Disposable (Foam Plastic), 8 oz.

Lid, Plastic (Foam Cup)

NSN: 7350-01-485-7092—Lid, Plastic (Foam Cup), 6 oz.

NSN: 7350-01-485-7094—Lid, Plastic (Foam Cup), 8 oz.

NSN: 7350-01-485-7093—Lid, Plastic (Foam Cup), 10 oz.

NSN: 7350-01-485-7889—Lid, Plastic (Foam Cup), 16 oz.

This notice withdraws the deletion of the above products from the Procurement List effective immediately.

Sheryl D. Kennerly,
Director, Information Management.

[FR Doc. E7-1714 Filed 2-1-07; 8:45 am]

BILLING CODE 6353-01-P